GENERAL SERVICES ADMINISTRATION

[Notice-PBS-2013-04; Docket 2013-0002; Sequence 42]

Notice Pursuant to Executive Order 12600 of Posting Certain GSA Real Property Lease Documents With Private Sector Landlords on GSA's Public Online Portal

AGENCY: Public Buildings Service, Office of Leasing, General Services Administration (GSA).

ACTION: Notice.

SUMMARY: This notice provides submitters notice pursuant to Executive Order 12600 that the GSA, Public Buildings Service, Office of Leasing is complying with the Office of Management and Budget's (OMB) Open Government Directive issued December 8, 2009, as M-10-06, to implement the principles of transparency and openness in government by posting certain GSA real property lease documents with private sector landlords on GSA's public online portal.

DATES: Comments must be received on or before February 18, 2014.

ADDRESSES: Submit comments identified by “Notice-PBS-2013-04”, by any of the following methods:

• Regulations.gov: http://www.regulations.gov. Submit comments via the Federal eRulemaking portal by searching for “Notice-PBS-2013-04”. Follow the instructions provided at the “Comment Now” screen. Please include your name, company name (if any), and “Notice-PBS-2013-04” on your attached document.

• Mail: General Services Administration, Regulatory Secretariat Division (MVCB), 1800 F Street NW., 2nd Floor, Washington, DC 20405. Notice-PBS-2013-04.

Instructions: Please submit comments only and cite “Notice-PBS-2013-04”, in all correspondence related to this notice. All comments received will be posted without change to http://www.regulations.gov, including any personal and/or business confidential information provided.

FOR FURTHER INFORMATION CONTACT: Mr. John D. Thomas at 202-501-2454.

SUPPLEMENTARY INFORMATION: [OMB's Open Government Directive issued December 8, 2009, as M-10-06, instructs federal agencies, including GSA, to take specific actions to implement the principles of transparency, participation, and collaboration. More specifically, the directive asks agencies to expand access to information by making it available online in open formats. To comply with this initiative, certain GSA real property lease documents with private sector landlords will be posted on GSA's public online portal, with specific data elements being redacted to protect privacy, personal, and proprietary information as outlined under the Freedom of Information Act (FOIA) and the Privacy Act. As such, this notice describes typical data elements contained in these lease documents and their exemption status under the FOIA statute.]

GSA, the nation's largest public real estate organization, provides workspace for more than 1.2 million federal workers through its Public Buildings Service. Approximately half of the employees are housed in buildings owned by the federal government and half are located in over 7,200 separate leased properties (in over 8,700 leases), including buildings, land, antenna sites, etc., across the country. In order to comply with OMB's Open Government Directive issued December 8, 2009, as M-10-06, of transparency and openness in government, by posting certain GSA real property lease documents with private sector landlords on GSA's public online portal, GSA has identified several data elements that are exempt from disclosure pursuant to FOIA under, 5 U.S.C. 552(b).

The following table contains a description of these data fields and their exempt status under FOIA:

FOIA Review of Data Elements in GSA Lease Documents
Data field | Exempt status | Public comments
(1) Lease Number | Not exempt under the FOIA.
(2) Lease Award Date | Not exempt under the FOIA.
(3) Leased Building Address (Including City State And Zip Code) | Not exempt under the FOIA.
(4) Lease Effective Date | Not exempt under the FOIA.
(5) Lease Expiration Date | Not exempt under the FOIA.
(6) Length of Renewal Option Term(s) | Not exempt under the FOIA.
(7) Renewal Option Rental Rate | Exempt—5 U.S.C. 522(b)(4).
(8) Information on Lease termination rights | Not exempt under the FOIA.
(9) Itemized Operating Cost Rate (Including Components Of Operating Costs, Such As Fuel Costs, Utilities, Janitorial Costs, etc.) | Exempt—5 U.S.C. 522(b)(4).
(10) Lease Agreement Rentable Square Feet (RSF) | Not exempt under the FOIA.
(11) Lease Agreement ANSI/BOMA Office Area Square Feet (ABOA SF) | Not exempt under the FOIA.
(12) Lease Structured Parking Spaces | Not exempt under the FOIA.
(13) Lease Surface Parking Spaces | Not exempt under the FOIA.
(14) Percentage Of Occupancy | Not exempt under the FOIA.
(15) Annual Rent (Including Rent Structure For Term Of Lease) | Not exempt under the FOIA.
(16) Lessor Name | Not exempt under the FOIA.
(17) Lessor Address if Lessor is an individual (including City, State, and Postal Code) | Exempt—5 U.S.C. 552(b)(6).
(18) Lessor Phone if Lessor is an individual | Exempt—5 U.S.C. 552(b)(6).
(19) Lessor Fax if Lessor is an individual | Exempt—5 U.S.C. 552(b)(6).
(20) Lessor Email if Lessor is an individual | Exempt—5 U.S.C. 552(b)(6).
(21) Name of Person Signing Lease | Not exempt under the FOIA.
(22) Name of Person Witnessing Lease Signature | Not exempt under the FOIA.
(23) Payee Name | Exempt—5 U.S.C. 552(b)(4).
(24) Payee Address (including City, State, and Postal Code) | Exempt—5 U.S.C. 552(b)(4).
(25) Payee Phone | Exempt—5 U.S.C. 552(b)(4).
(26) Payee Fax | Exempt—5 U.S.C. 552(b)(4).
(27) Payee Email | Exempt—5 U.S.C. 552(b)(4).
(28) Itemized Unit Price Schedule (Including Construction Costs For Tenant Buildout Items Such As Drywall Partitioning, Electrical Outlets, Doors, Carpeting, Locks, Cabinets, etc.) | Exempt—5 U.S.C. 522(b)(4).
(29) HVAC Overtime Rate | Not exempt under the FOIA.
(30) Corporate Resolution | Exempt—5 U.S.C. 552(b)(4).
(31) Partnership Agreement | Exempt—5 U.S.C. 552(b)(4).
(32) Adjustment For Vacant Premises Rate | Not exempt under the FOIA.
(33) Legal Description Of Building | Not exempt under the FOIA.
(34) Normal Business Hours Of Building | Not exempt under the FOIA.
(35) Agency Name or Agency initials | Exempt—5 U.S.C. 552(b)(7).
(36) Floor Plan and drawings | Exempt—5 U.S.C. 552(b)(5) and (7).
(37) Identification Of Building Floors Occupied | Not exempt under the FOIA.
(38) Lessor Tax Payer Identification Number if Lessor is business entity or individual | Exempt—5 U.S.C. 552(b)(4) or (6).
(39) Social Security Number | Exempt—5 U.S.C. 552(b)(6).
(40) DUNS Number (9 digit DUNS Number) | Not exempt under the FOIA.
(41) DUNS+4 (13 digit DUNS Number) | Exempt—5 U.S.C. 552(b)(4).
(42) Financial Institution | Exempt—5 U.S.C. 552(b)(4).
(43) Account Number | Exempt—5 U.S.C. 552(b)(4).
(44) ABA Routing ID | Exempt—5 U.S.C. 552(b)(4).
(45) Automated Clearing House (ACH) Network U.S. Phone | Exempt—5 U.S.C. 552(b)(4).
(46) ACH Non-U.S. Phone | Exempt—5 U.S.C. 552(b)(4).
(47) ACH Fax | Exempt—5 U.S.C. 552(b)(4).
(48) ACH E-Mail | Exempt—5 U.S.C. 552(b)(4).
(49) Broker Commission Information (Including Rates and Percentages) | Exempt—5 U.S.C. 552(b)(4).
(50) Address of Person Witnessing Lease Signature if Person is an individual | Exempt—5 U.S.C. 552(b)(6).
(51) Security Information or Requirements Deemed Sensitive | Exempt—5 U.S.C. 552(b)(7). |

Dated: January 8, 2014.
John D. Thomas,
Director, Center for Lease Policy, Public Building Services.

[FR Doc. 2014-00684 Filed 1-15-14; 8:45 am]

BILLING CODE 6820-23-P